DEPARTMENT OF HEALTH AND HUMAN SERVICES

Centers for Disease Control and Prevention

[60Day-17-0743; Docket No. CDC-2017-0086]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on proposed and/or continuing information collection, as required by the Paperwork Reduction Act of 1995. This notice invites comment on a proposed information collection project titled Monitoring Breastfeeding-Related Maternity Care—US hospitals. The Maternity Practices in Infant Nutrition and Care (mPINC) survey is a census of maternity care hospitals in the United States and Territories, that CDC has administered every other year since 2007 in order to monitor and examine changes in breastfeeding-related maternity care practices over time.

DATES: CDC must receive written comments on or before January 22, 2018.

ADDRESSES: You may submit comments, identified by Docket No. CDC-2017-0086 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. CDC will post, without change, all relevant comments to Regulations.gov.

Please Note: Submit all comments through the Federal eRulemaking portal (regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Monitoring Breastfeeding-Related Maternity Care—US Hospitals (OMB Control No. 0920-0743, Exp. 9/30/2016)—Reinstatement with change—Division of Nutrition, Physical Activity, and Obesity (DNPAO), National Center for Chronic Disease Prevention and Health Promotion (NCCDPHP), Centers for Disease Control and Prevention (CDC).

Background and Brief Description

Substantial evidence demonstrates the social, economic, and health benefits of breastfeeding for both the mother and infant as well as for society in general. Breastfeeding mothers have lower risks of breast and ovarian cancers and type 2 diabetes, and breastfeeding better protects infants against infections, chronic diseases like diabetes and obesity, and even childhood leukemia and sudden infant death syndrome (SIDS). However, the groups that are at higher risk for diabetes, obesity, and poor health overall persistently have the lowest breastfeeding rates.

Health professionals recommend at least 12 months of breastfeeding, and Healthy People 2020 establishes specific national breastfeeding goals. In addition to increasing overall rates, a significant public health priority in the U.S. is to reduce variation in breastfeeding rates across population subgroups. Although CDC surveillance data indicate that breastfeeding initiation rates in the United States are climbing, rates for duration and exclusivity continue to lag, and significant disparities persist between African American and white women in breastfeeding rates.

The health care system is one of the most important and effective settings to improve breastfeeding. Recognition of the hospital stay as a crucial influence in later breastfeeding outcomes led to the addition of two objectives in Healthy People 2020 to allow national monitoring of improvements in support for breastfeeding during this time. In 2007, CDC conducted the first national survey of Maternity Practices in Infant Nutrition and Care (known as the mPINC Survey) in health care facilities (hospitals and free-standing childbirth centers). CDC designed this biennial survey to provide baseline information. CDC also conducted the survey in 2009, 2011, 2013, and 2015. The survey inquired about patient education and support for breastfeeding throughout the maternity stay as well as staff training and maternity care policies.

Prior to the fielding of the 2009 iteration, OMB requested that CDC provide a report to OMB on the results of the 2007 collection. In this report, CDC provided survey results by geographic and demographic characteristics and a summary of activities that resulted from the survey. A summary of mPINC findings was also the anchor of all activities related to the CDC August 2011 Vital Signs activity, marking the first time that CDC highlighted improving hospital maternity practices as the CDC-wide public health priority. A summary of mPINC findings provided the basis of the CDC October 2015 Vital Signs report, which updated the 2011 Vital Signs report and concluded that although maternity care policies and practices supportive of breastfeeding are improving nationally; more work is needed to ensure all women receive optimal breastfeeding support during the birth hospitalization.

The 2018 and 2020 mPINC surveys will closely match those used before (2007, 2009, 2011, 2013, and 2015) in methodology and administration but CDC updated the content of the survey to reflect changes in maternity care over time. A major strength of the mPINC survey is its structure as an ongoing national census, which does not employ sampling methods. CDC uses the American Hospital Association (AHA) Annual Survey of Hospitals to identify potential participating facilities. Facilities invited to participate in the survey include hospitals that participated in previous iterations and those that received an invite but did not participate in the previous iterations, as well as those that have become eligible since the most recent mPINC survey. CDC will screen all hospitals with one or more registered maternity beds via a brief phone call to assess their eligibility, identify additional satellite locations, and identify the appropriate point of contact. The high response rates to the previous iterations of the mPINC survey (82-83% in 2007, 2009, 2011, 2013, and 2015) indicate that the methodology is appropriate and reflects high interest among the study population.

As with the initial surveys, a major goal of the 2018 and 2020 follow-up surveys is to be fully responsive to hospitals' needs for information and technical assistance. CDC will provide direct feedback to hospital respondents in a customized benchmark report of their results. CDC will use information from the mPINC surveys to identify, document, and share information related to incremental changes in practices and care processes over time at the hospital, state, and national levels. Researchers also use the data to gain a better understanding of the relationships between hospital characteristics, maternity-care practices, state level factors, and breastfeeding initiation and continuation rates.

Participation in the survey is voluntary, and participants may submit responses through a Web-based system.

There are no costs to respondents other than their time.

Estimated Annualized Burden Hours
Type of respondents | Form name | Number of respondents | Number of responses per respondent | Average burden per response (in hours) | Total burden (in hours)
Maternity Hospital | Screening Call Script Part A | 1,952 | 1 | 1/60 | 33
Maternity Hospital | Screening Call Script Part B | 1,672 | 1 | 4/60 | 111
Maternity Hospital | mPINC Facility Survey | 1,421 | 1 | 30/60 | 711
Total |  |  |  |  | 855

Leroy A. Richardson,
Chief, Information Collection Review Office, Office of Scientific Integrity, Office of the Associate Director for Science, Office of the Director, Centers for Disease Control and Prevention.

[FR Doc. 2017-25260 Filed 11-21-17; 8:45 am]

BILLING CODE 4163-18-P